DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending June 30, 2003.

Abegunde, Sunday Felix

Agusta, Corrado Claudio

Albury, Mary

Allison, Kevin Andrew

Andersen, Mary Ann

Angelicoussis, Maria

Ballard, Archibald Curtis

Barkema, Murray Richard

Barrios, Mali Miyashita-Trece

Barsamian, Lucy George

Basombrio, Miguel Angel Manuel

Becsey, Nadja Katerina

Beker, April Thomas

Beldi, Mario Aldo

Bergic, Doris Leonore

Birchard, Ronald William Thomas

Blackwood, Graeme C

Bogen, Linda Astrid

Bonnet, Christilla Marie

Bonney, Young Suk

Bonte-Friedheim, Michael Fritz Herbert

Boone, Geoffrey Lynn

Brandt, Tatyana Victoria

Brathen, Helen Elaine

Briquet, Beatrice Norton

Broman, David Nathanael

Bry, Daniela Lang

Burrows, Susan Teresa

Carr-Harris, Marianna Catherine

Castiglioni, Anthony Peter

Castiglioni, Attila Imre

Chan, Daisy Fook May

Charles, Elmore

Chen, William

Chen, Daisy

Chi, Patrick

Chiang, Peng-Kuen

Christensen, Allan Conrad

Christensen, Erik J

Christiano, Eugene Richard

Coulter, Gertraud

Cressman, Jerry Ann

Cronrath, Wolfgang Ernst

Dahinden, Max Christoph

Dale, Amy Lee

De Coninck Bigbie, John Eric

De Hoog, Gertruida J

De Hoog, Jan

De La Valette, Michael Parisot

De Rham, Christophe Bernard Olivier

de Seze, Amelie

Deichmann, Nicholas Carl

Devi, Lila Smaranam

Ding, Jian

Dohmen, Martina

Dorrance IV, John Thompson

Du Preez, Cecilia Karin Margareta

Edis, Jamie Edward

Edwards, Benjamin Franklin

Evans Jr., Charles Lee

Fabricant, Arthur E

Feldman, Jerome Edwin

Fretwell, Stanley Cecil

Fretwell, Carol Janeen

Fries, Marianne Ursula

Froelicher, Martin Andreas Otto

Fure, Kari-Ann Hatch

Georgulas, Nikos

Gering, Claudia Annamarie Elizabeth

Gomez, Eduardo X

Goodwin, Deann Marie

Guibert, Florence Gabrielle

Hagemann, Peter Hans

Hahl, Cindy Maria

Halvorson, David Travis

Hammel, Nilguen Sabiha

Hayes, Mari

Hediger, Margrit

Herrle, Klaus

Hickman, Jeanette Yvonne

Hofmann, Suzel De Jean

Holowesko, Stephen Geoffrey

Hosking, John Geir

Hussey, Marc J

Hyde, Diana W

Hyde, Geoffrey L

Illner, Walter

Islar, Roland Roger

Jaecklin, Stefan Andri

Jen-Tung Liu, James Alexander

Jeong, Munjae

Jobes, Carmen M.

Johnson, Joyce Marie

Jung, Young Hwa

Justesen, Abigail Esther

Karlsson, Mikael Marlies

Keller, George Andreas

Kerr, Eldon John

Kilmurry, Kathleen Joan

Kirschenbaum, Lester

Kline, Geoffrey Murdoch

Korff, Tawyna Lynn

Krag, Stephen Rosenstjerne

Kristensen, Elizabeth Edna Suzuki

Kusenbach, Patricia Ann

La Bagh, Damion Vincent

Lamotte, Mattias Ivan

Landen, Serge Max

Langoux, Camillia Marie Olivia

Lazzara, John

Levin II, Eric John

Lewis, Christopher Gene

Licht, Jeffrey Nicholas

Lindberg, Ronald Charles

Liu, Jialin

Luckett, Dwight Harreld

Luckyn-Malone, Phoebe Elizabeth Laura

Manosso, Marcos

Manousek, Claudia E

Manousek, Wolfgang

Markoulis, Jon Angelo

Martin, Caroline Genevieve

Mattson, Sara Maria

Maynard, Michael Sven

McCarthy, Erin Moira

McIver, Robert David Fraser

McCarville, Dennis Charles

McGraw Swearinger, Andrew

McKnight, Vanessa Patrice

Melzer, Marc Lawrence

Menuhin, Jeremy Louis Eugene

Meyer, Fredrik Carsten

Mileski, Stephen William

Miller, Martina Charlotte

Miller Jr., Thomas Denelle

Mitchell, Aaron Ferderal

Moltedo, Gabriele Corto

Monime, Armand

Moore, Sheila Sarah

Muller, Barbara Betty

Nagant de Deuxchaisnes, Didier C.

Nash, Kenneth H

Nash, Helen M

Neumann, David Michael

Newton, Warren Arthur

O'Reilly, Kevin Joseph

Ortiz, Marco A

Paek(nee Choi), Jung Sook

Pascoe, Ricardo Andres

Pedrazzini, Jean Pierre

Peterson, Arvid Curt

Phipps(nee Sternberg), Diana Frances

Piemontese, David Stefano

Poon, Stella Fong-Man

Poujol, Irene Florence

Pracht, Elizabeth Anne

Price, Nathaniel Clayton

Rechucher, George E

Reed, Sandra Shaw

Reinsurance Limited, Imagine International

Riggs, Marlene Sonja

Riscanu, Dragos

Ritter, Robert

Rix, Petra Simon

Rothbarth, Eric Walter

Roudette, Tanya Solina

Rutledge, Robert Frank

Saari, Thor

Saint-Brisson de Araujo Castro, Luiz Augusto

Schlaich, Michael Jon

Searcy, Carren Reyene Margarete

Segal, Erich Wolf

Sevini, Perla Bruna

Smith, Sydney Lanier

Spieler, Penelope

Stensrod, Solveig Berg

Straub, Helga Erika

Striker, Edward Franklin

Sturge, Joan Claire

Suchet, Bonnie Lee

Sweet, Astri Ingrid

Takao, Sunao

Thomas, James Lewis

Trejos, Emilia Maria

Turner, Walter Vernon

Turner, James Allen

Van Bruggen, Ariena H. C.

Van Der Pers-King, Bonnie M

Van Veen, Astrid Renata

Varne, Lloyd

Vea Gabrielsen, Ingrid Marie

Velay, Valentine

Viermetz, Kurt F

Watt, David Forbes

Watt Jr., David Stanley

Wendlandt, Gerhart Stephan

Wenzel, Celine Neumann

Whiteleather, Gerald Kerr

Wieler, Aram Tobias

Wilkinson, Barbara Elizabeth

Wilkinson, Thomas Patrick

Williams, Diana Kathryn

Williams, Ariadne Noel

Young, Christopher Joseph

Yu, Jun Okuyama

Zane 3rd, Lewis Earl

Zimmerman, Rita Charlotte

Zimmerman, John Ernest

Zimmerman, Fiona Diane

Dated: July 21, 2003.
Tracy Harmon,
Acting Team Manager—Examination Operation, Philadelphia Compliance Services.

[FR Doc. 03-19368 Filed 7-29-03; 8:45 am]

BILLING CODE 4830-01-P